DEPARTMENT OF HEALTH AND HUMAN SERVICES

Food and Drug Administration

Anesthetic and Life Support Drugs Advisory Committee Meeting; Cancellation

AGENCY: Food and Drug Administration, HHS.

ACTION: Notice.

SUMMARY: The Food and Drug Administration (FDA) is canceling the meeting of the Anesthetic and Life Support Drugs Advisory Committee scheduled for June 14 and 15, 2001. The meeting was announced in the Federal Register of May 3, 2001 (66 FR 22240). It will be rescheduled at a later date.

FOR FURTHER INFORMATION CONTACT: Kimberly Topper, Center for Drug Evaluation and Research (HFD-21), Food and Drug Administration, 5600 Fishers Lane, Rockville, MD 20857, 301-827-7001, or FDA Advisory Committee Information Line, 1-800-741-8138 (301-443-0572 in the Washington, DC area), code 12529.

Dated: May 31, 2001.
Linda A. Suydam,
Senior Associate Commissioner.

[FR Doc. 01-14293 Filed 6-6-01; 8:45 am]

BILLING CODE 4160-01-S